DEPARTMENT OF COMMERCE

International Trade Administration

[A-570-929]

Small Diameter Graphite Electrodes From the People's Republic of China: Preliminary Results of Antidumping Duty Administrative Review and Partial Rescission; 2011-2012

AGENCY: Import Administration, International Trade Administration, Department of Commerce.

SUMMARY: The Department of Commerce (the Department) is conducting an administrative review of the antidumping duty order on small diameter graphite electrodes (graphite electrodes) from the People's Republic of China (PRC), covering the period February 1, 2011, through January 31, 2012. The Department has preliminarily determined that during the period of review (POR) certain companies covered by this review have not made sales of subject merchandise at less than normal value, and that other companies are now part of the PRC-wide entity.

DATES: Effective Date: March 8, 2013.

FOR FURTHER INFORMATION CONTACT: Dmitry Vladimirov or Minoo Hatten, AD/CVD Operations, Office 1, Import Administration, International Trade Administration, U.S. Department of Commerce, 14th Street and Constitution Avenue NW, Washington DC 20230; telephone: (202) 482-0665 or (202) 482-1690, respectively.

Scope of the Order

The merchandise covered by the order includes all small diameter graphite electrodes with a nominal or actual diameter of 400 millimeters (16 inches) or less and graphite pin joining systems for small diameter graphite electrodes. Small diameter graphite electrodes and graphite pin joining systems for small diameter graphite electrodes that are subject to the order are currently classified under the Harmonized Tariff Schedule of the United States (HTSUS) subheadings 8545.11.0010 and 3801.10. The HTSUS numbers are provided for convenience and customs purposes. A full description of the scope of the order is contained in the memorandum from Christian Marsh, Deputy Assistant Secretary for Antidumping and Countervailing Duty Operations, to Paul Piquado, Assistant Secretary for Import Administration, “Decision Memorandum for Preliminary Results of Antidumping Duty Administrative Review: Small Diameter Graphite Electrodes from the People's Republic of China” dated concurrently with this notice (Preliminary Decision Memorandum), which is hereby adopted by this notice. The written description is dispositive. The Preliminary Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Partial Rescission of the Administrative Review

Based on the withdrawal of the requests for review and because the companies previously established their entitlement to a separate rate, we are rescinding this administrative review with respect to 19 companies named in the Initiation Notice ¹ and listed in the attachment to this notice as Appendix II.

¹ See Initiation of Antidumping and Countervailing Duty Administrative Reviews and Request for Revocation in Part, and Deferral of Administrative Review, 77 FR 19179 (March 30, 2012) (Initiation Notice).

Methodology

The Department has conducted this review in accordance with section 751(a)(1)(A) of the Tariff Act of 1930, as amended (the Act). Export prices have been calculated in accordance with section 772 of the Act. Because the PRC is a non-market economy (NME) within the meaning of section 771(18) of the Act, normal value has been calculated in accordance with section 773(c) of the Act. Specifically, the respondents' factors of production have been valued using prices in Ukraine, a country which is economically comparable to the PRC and a significant producer of comparable merchandise. For a full description of the methodology underlying our conclusions, see Preliminary Decision Memorandum.

Preliminary Results of Review

The Department has determined that the following preliminary dumping margins exist for the period February 1, 2011, through January 31, 2012:

Company | Margin (percent)
Fushun Jinly Petrochemical Carbon Co., Ltd | 0.00
Beijing Fangda Carbon Tech Co., Ltd | 0.00
Chengdu Rongguang Carbon Co., Ltd | 0.00
Fangda Carbon New Material Co., Ltd | 0.00
Fushun Carbon Co., Ltd | 0.00
Hefei Carbon Co., Ltd | 0.00
Xinghe County Muzi Carbon Co., Ltd | 0.00
PRC-wide entity † | 159.64
† The PRC-wide entity includes the companies listed in Appendix III.

Disclosure and Public Comment

The Department will disclose calculations performed for these preliminary results to the parties within five days of the date of publication of this notice in accordance with 19 CFR 351.224(b). Interested parties may submit written comments no later than 30 days after the date of publication of these preliminary results of review.² Rebuttals to written comments may be filed no later than five days after the written comments are filed.³

² See 19 CFR 351.309(c).

³ See 19 CFR 351.309(d).

Any interested party may request a hearing within 30 days of publication of this notice.⁴ Hearing requests should contain the following information: (1) The party's name, address, and telephone; (2) the number of participants; and (3) a list of issues to be discussed. Oral presentations will be limited to issues raised in the briefs. If a request for a hearing is made, parties will be notified of the time and date for the hearing to be held at the U.S. Department of Commerce, 1401 Constitution Avenue NW, Washington, DC 20230.⁵

⁴ See 19 CFR 351.310(c).

⁵ See 19 CFR 351.310(d).

The Department intends to issue the final results of this administrative review, which will include the results of its analysis of issues raised in any such comments, within 120 days of publication of these preliminary results, pursuant to section 751(a)(3)(A) of the Act.

Deadline for Submission of Publicly Available Surrogate Value Information

In accordance with 19 CFR 351.301(c)(3)(ii), the deadline for submission of publicly available information to value factors production under 19 CFR 351.408(c) is 20 days after the date of publication of these preliminary results. In accordance with 19 CFR 351.301(c)(1), if an interested party submits factual information less than ten days before, on, or after (if the Department has extended the deadline), the applicable deadline for submission of such factual information, an interested party may submit factual information to rebut, clarify, or correct the factual information no later than ten days after such factual information is served on the interested party. However, the Department generally will not accept in the rebuttal submission additional or alternative surrogate value information not previously on the record, if the deadline for submission of surrogate value information has passed.⁶ Furthermore, the Department generally will not accept business proprietary information in either the surrogate value submissions or the rebuttals thereto, as the regulation regarding the submission of surrogate values allows only for the submission of publicly available information.⁷

⁶ See, e.g., Glycine from the People's Republic of China: Final Results of Antidumping Duty Administrative Review and Final Rescission, in Part, 72 FR 58809 (October 17, 2007), and accompanying Issues and Decision Memorandum at Comment 2.

⁷ See 19 CFR 351.301(c)(3).

Assessment Rates

Upon issuing the final results of review, the Department will determine, and U.S. Customs and Border Protection (CBP) shall assess, antidumping duties on all appropriate entries covered by this review.⁸ If a respondent's weighted-average dumping margin is above de minimis (i.e., 0.50 percent) in the final results of this review, we will calculate an importer-specific assessment rate on the basis of the ratio of the total amount of dumping calculated for the importer's examined sales and, where possible, the total entered value of those sales in accordance with 19 CFR 351.212(b)(1). Specifically, the Department will apply the assessment rate calculation method adopted in Final Modification for Reviews, i.e., on the basis of monthly average-to-average comparisons using only the transactions associated with that importer with offsets being provided for non-dumped comparisons.⁹ Where an importer- (or customer-) specific ad valorem rate is zero or de minimis, we will instruct CBP to liquidate appropriate entries without regard to antidumping duties.¹⁰

⁸See 19 CFR 351.212(b)(1).

⁹See Antidumping Proceeding: Calculation of the Weighted-Average Dumping Margin and Assessment Rate in Certain Antidumping Duty Proceedings; Final Modification, 77 FR 8103 (February 14, 2012) (Final Modification for Reviews).

¹⁰See 19 CFR 351.106(c)(2).

On October 24, 2011, the Department announced a refinement to its assessment practice in NME cases. ¹¹ Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.

¹¹ For a full discussion of this practice, see Non-Market Economy Antidumping Proceedings: Assessment of Antidumping Duties, 76 FR 65694 (October 24, 2011).

The Department intends to issue appropriate assessment instructions directly to CBP 15 days after publication of the final results of review.

Cash Deposit Requirements

The following cash deposit requirements will be effective upon publication of the final results of this administrative review for shipments of the subject merchandise from the PRC entered, or withdrawn from warehouse, for consumption on or after the publication date, as provided by section 751(a)(2)(C) of the Act: (1) The cash deposit rate for Fushun Jinly Petrochemical Carbon Co., Ltd., Xinghe County Muzi Carbon Co., Ltd., and the five companies comprising the Fangda Group ¹² will be the rate established in the final results of this administrative review (except, if the rate is zero or de minimis, then no cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

¹² The Fangda Group consists of Beijing Fangda Carbon Tech Co., Ltd., Chengdu Rongguang Carbon Co., Ltd., Fangda Carbon New Material Co., Ltd., Fushun Carbon Co., Ltd., and Hefei Carbon Co., Ltd. We refer to the Fangda Group as a single entity pursuant to 19 CFR 351.401(f)(1). See Small Diameter Graphite Electrodes From the People's Republic of China: Preliminary Determination of Sales at Less Than Fair Value, Postponement of Final Determination, and Affirmative Preliminary Determination of Critical Circumstances, in Part, 73 FR 49408, 49411-12 (August 21, 2008) (where we collapsed the individual members of the Fangda Group), unchanged in Final Determination of Sales at Less Than Fair Value and Affirmative Determination of Critical Circumstances: Small Diameter Graphite Electrodes from the People's Republic of China, 74 FR 2049 (January 14, 2009).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and notice are in accordance with sections 751(a)(1) and 777(i) of the Act and 19 CFR 351.213.

Dated: March 4, 2013.
Paul Piquado,
Assistant Secretary for Import Administration.

Appendix I

List of Topics Discussed in the Preliminary Decision Memorandum

1. Scope of the Order

2. Non-Market Economy Country Status

3. Separate Rates

4. Rate for Non-Selected Companies

5. PRC-Wide Entity

6. Surrogate Country

7. Fair-Value Comparisons

8. Export Price

9. Normal Value

10. Factor Valuations

11. Use of Facts Available

12. Allegations of Targeted Dumping

13. Currency Conversion

Appendix II

Firms for which we are rescinding this administrative review because we received timely withdrawal requests and these companies have a separate rate from a prior segment.

1. Brilliant Charter Limited,

2. Dalian Thrive Metallurgy Imp. & Exp. Co., Ltd.

3. GES (China) Co., Ltd.

4. Heilongjiang Xinyuan Carbon Products Co., Ltd.

5. Jiaozuo Zhongzhou Carbon Products Co., Ltd.

6. Linghai Hongfeng Carbon Products Co., Ltd.

7. Nantong Falter New Energy Co., Ltd.

8. Nantong River-East Carbon Co., Ltd.

9. Nantong River-East Carbon Joint Stock Co., Ltd.

10. Nantong Yangtze Carbon Corp. Ltd.

11. Qingdao Haosheng Metals Imp. & Exp. Co., Ltd.

12. Shanghai GC Co., Ltd.

13. Shanghai Jinneng International Trade Co., Ltd.

14. Shenyang Jinli Metals & Minerals Imp. & Exp. Co., Ltd.

15. Shijiazhuang Huanan Carbon Factory

16. Sinosteel Jilin Carbon Co., Ltd.

17. Tianzhen Jintian Graphite Electrodes Co., Ltd.

18. Xinghe Xinyuan Carbon Products Co., Ltd.

19. Xuzhou Jianglong Carbon Manufacture Co., Ltd.

Appendix III

Firms for which we are not rescinding the review even though we received timely withdrawal requests because these companies are part of the PRC entity as they did not have a separate rate from a prior segment.

1. 5-Continent Imp. & Exp. Co., Ltd.

2. Acclcarbon Co., Ltd.

3. Allied Carbon (China) Co., Limited

4. Anssen Metallurgy Group Co., Ltd.

5. AMGL

6. Apex Maritime (Dalian) Co., Ltd.

7. Asahi Fine Carbon (Dalian) Co., Ltd.

8. Beijing Xinchengze Inc.

9. Beijing Xincheng Sci-Tech. Development Inc.

10. Chang Cheng Chang Electrode Co., Ltd.

11. Chengdelh Carbonaceous Elements Factory

12. Chengdu Jia Tang Corp.

13. China Industrial Mineral & Metals Group

14. China Shaanxi Richbond Imp. & Exp. Industrial Corp. Ltd.

15. China Xingyong Carbon Co., Ltd.

16. CIMM Group Co., Ltd.

17. Dalian Carbon & Graphite Corporation

18. Dalian Hongrui Carbon Co., Ltd.

19. Dalian Honest International Trade Co., Ltd.

20. Dalian Horton International Trading Co., Ltd.

21. Dalian LST Metallurgy Co., Ltd.

22. Dalian Shuangji Co., Ltd.

23. Datong Carbon

24. Datong Carbon Plant

25. Datong Xincheng Carbon Co., Ltd.

26. De Well Container Shipping Corp.

27. Dewell Group

28. Dignity Success Investment Trading Co., Ltd.

29. Double Dragon Metals and Mineral Tools Co., Ltd.

30. Fangda Lanzhou Carbon Joint Stock Company Co. Ltd.

31. Foset Co., Ltd.

32. Fushun Orient Carbon Co., Ltd.

33. Guangdong Highsun Yongye (Group) Co., Ltd.

34. Haimen Shuguang Carbon Industry Co., Ltd.

35. Handan Hanbo Material Co., Ltd.

36. Hebei Long Great Wall Electrode Co., Ltd.

37. Heilongjiang Xinyuan Metacarbon Company, Ltd.

38. Henan Sanli Carbon Products Co., Ltd.

39. Hopes (Beijing) International Co., Ltd.

40. Hunan Mec Machinery and Electronics Imp. & Exp. Corp.

41. Hunan Yinguang Carbon Factory Co., Ltd.

42. Inner Mongolia QingShan Special Graphite and Carbon Co., Ltd.

43. Inner Mongolia Xinghe County Hongyuan Electrical Carbon Factory

44. Jiang Long Carbon

45. Jiangsu Yafei Carbon Co., Ltd.

46. Jichun International Trade Co., Ltd. of Jilin Province

47. Jiexiu Juyuan Carbon Co., Ltd.

48. Jiexiu Ju-Yuan & Coaly Co., Ltd.

49. Jilin Carbon Graphite Material Co., Ltd.

50. Jilin Carbon Import and Export Company

51. Jilin Songjiang Carbon Co Ltd.

52. Jinneng Group Co., Ltd.

53. Jinyu Thermo-Electric Material Co., Ltd.

54. Kaifeng Carbon Company Ltd.

55. KASY Logistics (Tianjin) Co., Ltd.

56. Kimwan New Carbon Technology and Development Co., Ltd.

57. Kingstone Industrial Group Ltd.

58. L & T Group Co., Ltd.

59. Laishui Long Great Wall Electrode Co. Ltd.

60. Lanzhou Carbon Co., Ltd.

61. Lanzhou Carbon Import & Export Corp.

62. Lanzhou Hailong Technology

63. Lanzhou Ruixin Industrial Material Co., Ltd.

64. LH Carbon Factory of Chengde

65. Lianxing Carbon Qinghai Co., Ltd.

66. Lianxing Carbon Science Institute

67. Lianxing Carbon (Shandong) Co., Ltd.

68. Lianyungang Jinli Carbon Co., Ltd.

69. Liaoyang Carbon Co. Ltd.

70. Linyi County Lubei Carbon Co., Ltd.

71. Maoming Yongye (Group) Co., Ltd.

72. MBI Beijing International Trade Co., Ltd.

73. Nantong Yangtze Carbon Corp. Ltd.

74. Orient (Dalian) Carbon Resources Developing Co., Ltd.

75. Orient Star Transport International, Ltd.

76. Peixian Longxiang Foreign Trade Co. Ltd.

77. Qingdao Grand Graphite Products Co., Ltd.

78. Quingdao Haosheng Metals & Minerals Imp. & Exp. Co., Ltd.

79. Qingdao Liyikun Carbon Development Co., Ltd.

80. Qingdao Likun Graphite Co., Ltd.

81. Qingdao Ruizhen Carbon Co., Ltd.

82. Ray Group Ltd.

83. Rex International Forwarding Co., Ltd.

84. Rt Carbon Co., Ltd.

85. Ruitong Carbon Co., Ltd.

86. Shandong Basan Carbon Plant

87. Shandong Zibo Continent Carbon Factory

88. Shanghai Carbon International Trade Co., Ltd.

89. Shanghai P.W. International Ltd.

90. Shanghai Shen-Tech Graphite Material Co., Ltd.

91. Shanghai Topstate International Trading Co., Ltd.

92. Shanxi Datong Energy Development Co., Ltd.

93. Shanxi Foset Carbon Co. Ltd.

94. Shanxi Jiexiu Import and Export Co., Ltd.

95. Shanxi Jinneng Group Co., Ltd.

96. Shanxi Yunheng Graphite Electrode Co., Ltd.

97. Shijaizhuang Carbon Co., Ltd.

98. Sichuan 5-Continent Imp. & Exp. Co., Ltd.

99. Sichuan GMT International Inc.

100. Sinicway International Logistics Ltd.

101. Sinosteel Anhui Co., Ltd.

102. Sinosteel Jilin Carbon Imp. & Exp. Co., Ltd.

103. Sinosteel Sichuan Co., Ltd.

104. SMMC Group Co., Ltd.

105. Sure Mega (Hong Kong) Ltd.

106. Tangshan Kimwan Special Carbon & Graphite Co., Ltd.

107. Tengchong Carbon Co., Ltd.

108. Tianjin (Teda) Iron & Steel Trade Co., Ltd.

109. Tianjin Kimwan Carbon Technology and Development Co., Ltd.

110. Tianjin Yue Yang Industrial & Trading Co., Ltd.

111. Tielong (Chengdu) Carbon Co., Ltd.

112. UK Carbon & Graphite

113. United Carbon Ltd.

114. United Trade Resources, Inc.

115. Weifang Lianxing Carbon Co., Ltd.

116. World Trade Metals & Minerals Co., Ltd.

117. XC Carbon Group

118. Xinyuan Carbon Co., Ltd.

119. Xuanhua Hongli Refractory and Mineral Company

120. Xuchang Minmetals & Industry Co., Ltd.

121. Xuzhou Carbon Co., Ltd.

122. Xuzhou Electrode Factory

123. Yangzhou Qionghua Carbon Trading Ltd.

124. Yixing Huaxin Imp & Exp Co. Ltd.

125. Youth Industry Co., Ltd.

126. Zhengzhou Jinyu Thermo-Electric Material Co., Ltd.

127. Zibo Continent Carbon Factory

128. Zibo DuoCheng Trading Co., Ltd.

129. Zibo Lianxing Carbon Co., Ltd.

130. Zibo Wuzhou Tanshun Carbon Co., Ltd.

Companies that are now part of the PRC entity because they did not demonstrate in this review that they are entitled to a separate rate.

1. Dechang Shida Carbon Co., Ltd.

2. Shida Carbon Group

3. Sichuan Shida Trading Co., Ltd.

4. Sichuan Guanghan Shida Carbon Co., Ltd.¹³

¹³ In the Initiation Notice, we initiated a review of Guanghan Shida Carbon Co., Ltd. This company is the same entity as Sichuan Guanghan Shida Carbon Co., Ltd. See Small Diameter Graphite Electrodes from the People's Republic of China: Final Results of the Antidumping Duty Administrative Review, 77 FR 40854, 40856 (July 11, 2012).

[FR Doc. 2013-05494 Filed 3-7-13; 8:45 am]

BILLING CODE 3510-DS-P